DEPARTMENT OF ENERGY

Federal Energy Regulatory Commission

Combined Notice of Filings

Take notice that the Commission has received the following Natural Gas Pipeline Rate and Refund Report filings:

Filings Instituting Proceedings

Docket Numbers: PR16-12-000.

Applicants: Columbia Gas of Maryland, Inc.

Description: Submits tariff filing per 284.123(b)(1)/: SOC to be effective 11/5/2015; Filing Type: 980.

Filed Date: 1/19/16.

Accession Number: 201601195012.

Comments/Protests Due: 5 p.m. ET 2/9/16.

Docket Numbers: PR16-13-000.

Applicants: Columbia Gas of Ohio, Inc.

Description: Submits tariff filing per 284.123(b)(1)/: SOC to be effective 11/30/2015; Filing Type: 980

Filed Date: 1/19/16.

Accession Number: 201601195014.

Comments/Protests Due: 5 p.m. ET 2/9/16.

Docket Numbers: RP16-389-000.

Applicants: Northwest Pipeline LLC.

Description: § 4(d) Rate Filing: NWP—Measurement Correction/Adjustments Filing to be effective 2/18/2016.

Filed Date: 1/19/16.

Accession Number: 20160119-5019.

Comments Due: 5 p.m. ET 2/1/16.

Docket Numbers: RP16-390-000.

Applicants: Iroquois Gas Transmission System, L.P.

Description: § 4(d) Rate Filing: 01/19/16 Negotiated Rates—ConEdison Energy, Inc. (HUB) 2275-89 to be effective 1/18/2016.

Filed Date: 1/19/16.

Accession Number: 20160119-5193.

Comments Due: 5 p.m. ET 2/1/16.

Docket Numbers: RP16-391-000.

Applicants: Iroquois Gas Transmission System, L.P.

Description: § 4(d) Rate Filing: 01/19/16 Negotiated Rates—Mercuria Energy Gas Trading LLC (HUB) 7540-89 to be effective 1/18/2016.

Filed Date: 1/19/16.

Accession Number: 20160119-5194.

Comments Due: 5 p.m. ET 2/1/16.

Docket Numbers: RP16-392-000.

Applicants: Viking Gas Transmission Company.

Description: § 4(d) Rate Filing: Negotiated Rate PAL Agreement—Southwest Energy LP to be effective 1/19/2016.

Filed Date: 1/19/16.

Accession Number: 20160119-5257.

Comments Due: 5 p.m. ET 2/1/16.

Docket Numbers: RP16-393-000.

Applicants: Midwestern Gas Transmission Company.

Description: § 4(d) Rate Filing: Negotiated Rate PAL Agreement—ConocoPhillips Company to be effective 1/17/2016.

Filed Date: 1/19/16.

Accession Number: 20160119-5267.

Comments Due: 5 p.m. ET 2/1/16.

Docket Numbers: RP16-394-000.

Applicants: OkTex Pipeline Company, L.L.C.

Description: § 4(d) Rate Filing: Sales and Purchases of Gas for Operational Purposes to be effective 3/1/2016.

Filed Date: 1/19/16.

Accession Number: 20160119-5273.

Comments Due: 5 p.m. ET 2/1/16.

Docket Numbers: RP16-395-000.

Applicants: Equitrans, L.P.

Description: § 4(d) Rate Filing: Modified Operational Purchases and Sales to be effective 2/19/2016.

Filed Date: 1/19/16.

Accession Number: 20160119-5346.

Comments Due: 5 p.m. ET 2/1/16.

Docket Numbers: RP16-396-000.

Applicants: Texas Eastern Transmission, LP.

Description: § 4(d) Rate Filing: TETLP Jan2016 Cleanup Filing for GTC Section 1 to be effective 2/20/2016.

Filed Date: 1/20/16.

Accession Number: 20160120-5000.

Comments Due: 5 p.m. ET 2/1/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-184-001.

Applicants: Cameron Interstate Pipeline, LLC.

Description: Compliance filing Cameron Interstate Pipeline FERC Dec. 30, 2016 Order Compliance Filing to be effective 3/1/2016.

Filed Date: 1/19/16.

Accession Number: 20160119-5256.

Comments Due: 5 p.m. ET 2/1/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated January 20, 2016.
Nathaniel J. Davis, Sr.,
Deputy Secretary.

[FR Doc. 2016-01470 Filed 1-25-16; 8:45 am]

BILLING CODE 6717-01-P